DEPARTMENT OF ENERGY

Federal Energy Regulatory Commission

Combined Notice of Filings #1

Take notice that the Commission received the following electric corporate filings:

Docket Numbers: EC22-96-000.

Applicants: Cambria Wind, LLC.

Description: Application for Prospective Authorization Under Section 203 of the Federal Power Act of Cambria Wind, LLC.

Filed Date: 7/26/22.

Accession Number: 20220726-5151.

Comment Date: 5 p.m. ET 8/16/22.

Take notice that the Commission received the following electric rate filings:

Docket Numbers: ER10-1818-031; ER10-1819-034; ER10-1820-037.

Applicants: Northern States Power Company, a Wisconsin corporation, Northern States Power Company, a Minnesota corporation, Public Service Company of Colorado.

Description: Notice of Change in Status of Northern States Power Company, a Minnesota corporation, et al.

Filed Date: 7/27/22.

Accession Number: 20220727-5043.

Comment Date: 5 p.m. ET 8/17/22.

Docket Numbers: ER10-1852-067; ER10-2641-042.

Applicants: Oleander Power Project, Limited Partnership, Florida Power & Light Company.

Description: Notice of Change in Status of Florida Power & Light Company, et al.

Filed Date: 7/26/22.

Accession Number: 20220726-5148.

Comment Date: 5 p.m. ET 8/16/22.

Docket Numbers: ER16-1258-005; ER16-438-007; ER13-1266-036; ER15-2211-033; ER10-2984-053.

Applicants: Merrill Lynch Commodities, Inc., MidAmerican Energy Services, LLC, CalEnergy, LLC, Marshall Wind Energy LLC, Grande Prairie Wind, LLC.

Description: Supplement to December 23, 2021 Triennial Market Power Analysis for Southwest Power Pool Inc. Region of Grande Prairie Wind, LLC, et al.

Filed Date: 7/15/22.

Accession Number: 20220715-5241.

Comment Date: 5 p.m. ET 8/8/22.

Docket Numbers: ER16-2481-001.

Applicants: AES Laurel Mountain, LLC.

Description: Notice of Change in Status of AES Laurel Mountain, LLC.

Filed Date: 7/26/22.

Accession Number: 20220726-5145.

Comment Date: 5 p.m. ET 8/16/22.

Docket Numbers: ER20-2101-002.

Applicants: Fern Solar LLC.

Description: Notice of Change in Status of Fern Solar LLC.

Filed Date: 7/26/22.

Accession Number: 20220726-5146.

Comment Date: 5 p.m. ET 8/16/22.

Docket Numbers: ER22-799-003.

Applicants: Lancaster Area Battery Storage, LLC.

Description: Notice of Change in Status of Lancaster Area Battery Storage, LLC.

Filed Date: 7/26/22.

Accession Number: 20220726-5144.

Comment Date: 5 p.m. ET 8/16/22.

Docket Numbers: ER22-2301-000.

Applicants: PJM Interconnection, L.L.C.

Description: PJM Interconnection, L.L.C., Submits a Notice of Cancellation of Transmission Service Agreement No. 325 for Firm Point-to-Point Transmission Service entered into by and between PJM and Carolina Power & Light Company.

Filed Date: 7/1/22.

Accession Number: 20220701-5475.

Comment Date: 5 p.m. ET 8/1/22.

Docket Numbers: ER22-2495-000.

Applicants: Midcontinent Independent System Operator, Inc., Ameren Illinois Company.

Description: § 205(d) Rate Filing: Midcontinent Independent System Operator, Inc. submits tariff filing per 35.13(a)(2)(iii: 2022-07-27_SA 2685 Ameren-SIPC Hoyleton Proj Spec No. 4 to be effective 9/26/2022.

Filed Date: 7/27/22.

Accession Number: 20220727-5013.

Comment Date: 5 p.m. ET 8/17/22.

Docket Numbers: ER22-2496-000.

Applicants: UBS AG.

Description: Notice of Cancellation of Market Based Rate Tariff of UBS AG.

Filed Date: 7/27/22.

Accession Number: 20220727-5045.

Comment Date: 5 p.m. ET 8/17/22.

Docket Numbers: ER22-2497-000.

Applicants: PJM Interconnection, L.L.C.

Description: Tariff Amendment: Notice of Cancellation of CSA, SA No. 4736; Queue No. AA2-053/AA2-174 to be effective 5/25/2022.

Filed Date: 7/27/22.

Accession Number: 20220727-5057.

Comment Date: 5 p.m. ET 8/17/22.

Docket Numbers: ER22-2498-000.

Applicants: Verso Escanaba LLC.

Description: § 205(d) Rate Filing: Billerud Escanaba LLC Notice of Succession to be effective 7/28/2022.

Filed Date: 7/27/22.

Accession Number: 20220727-5060.

Comment Date: 5 p.m. ET 8/17/22.

Docket Numbers: ER22-2499-000.

Applicants: Border Energy Electric Services, Inc.

Description: Tariff Amendment: Notice of Cancellation to be effective 7/28/2022.

Filed Date: 7/27/22.

Accession Number: 20220727-5079.

Comment Date: 5 p.m. ET 8/17/22.

Docket Numbers: ER22-2500-000.

Applicants: DLS—Jean Duluth Project Co, LLC.

Description: Baseline eTariff Filing: MBR Application to be effective 9/26/2022.

Filed Date: 7/27/22.

Accession Number: 20220727-5098.

Comment Date: 5 p.m. ET 8/17/22.

Docket Numbers: ER22-2501-000.

Applicants: DLS—Laskin Project Co, LLC.

Description: Baseline eTariff Filing: MBR Application to be effective 9/26/2022.

Filed Date: 7/27/22.

Accession Number: 20220727-5099.

Comment Date: 5 p.m. ET 8/17/22.

Docket Numbers: ER22-2502-000.

Applicants: DLS—Sylvan Project Co, LLC.

Description: Baseline eTariff Filing: MBR Application to be effective 9/26/2022.

Filed Date: 7/27/22.

Accession Number: 20220727-5101.

Comment Date: 5 p.m. ET 8/17/22.

Docket Numbers: ER22-2503-000.

Applicants: Duke Energy Carolinas, LLC.

Description: § 205(d) Rate Filing: DEC-Certificate of Concurrence to the CRSG to be effective 10/1/2022.

Filed Date: 7/27/22.

Accession Number: 20220727-5106.

Comment Date: 5 p.m. ET 8/17/22.

Take notice that the Commission received the following electric securities filings:

Docket Numbers: ES22-55-000; ES22-56-000; ES22-57-000; ES22-58-000; ES22-59-000; ES22-60-000.

Applicants: Massachusetts Electric Company, Nantucket Electric Company, Niagara Mohawk Power Corporation, New England Hydro-Transmission Electric Company, Inc., New England Power Company, National Grid Generation LLC.

Description: Application Under Section 204 of the Federal Power Act for Authorization to Issue Securities of Massachusetts Electric Company, et al.

Filed Date: 7/27/22.

Accession Number: 20220727-5077.

Comment Date: 5 p.m. ET 8/17/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385 211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 27, 2022.
Debbie-Anne A. Reese,
Deputy Secretary.

[FR Doc. 2022-16513 Filed 8-1-22; 8:45 am]

BILLING CODE 6717-01-P